NATIONAL SCIENCE FOUNDATION

Special Emphasis Panel in Advanced Computational Infrastructure & Research; Notice of Meeting

In accordance with the Federal Advisory Committee Act (Pub. L. 92-463, as amended), the National Science Foundation announces the following meetings of the Special Emphasis Panel in Advanced Computational Infrastructure & Research (#1185):

Date and Time: October 11, 2000, 8:30 a.m.-5 p.m. and October 12, 2000 8:30 a.m.-12 p.m.

Place: National Science Foundation, 4201 Wilson Boulevard, Suite 1120, Arlington, VA.

Type of Meeting: Closed.

Contact Person: Charles H. Koelbel, Program Director, Advanced Computational Research Program, Suite 1122, National Science Foundation, 4201 Wilson Boulevard, Arlington, VA 22230. (703) 306-1962.

Purpose of Meeting: To provide recommendations and advice concerning Software Proposals submitted to NSF for financial support.

Agenda: To review and evaluate Proposals in the Advanced Computational Research Program as part of the selection process for awards.

Date and Time: October 13, 2000, 8:30 a.m.-5 p.m.

Place: National Science Foundation, 4201 Wilson Boulevard, Suite 1120, Arlington, VA.

Type of Meeting: Closed.

Contact Person: Charles H. Koelbel, Program Director, Advanced Computational Research Program Suite 1122, National Science Foundation, 4201 Wilson Boulevard, Arlington, VA 22230. (703) 306-1962.

Purpose of Meeting: To provide recommendations and advice concerning CAREER proposals submitted to NSF for financial support.

Agenda: To review and evaluate Proposals in the Advanced Computational Research Program as part of the selection process for awards.

Reason for Closing: The proposals being reviewed include information of a proprietary or confidential nature, including technical information; financial data such as salaries; and personal information concerning individuals associated with the proposals. These matters are exempt under 5 U.S.C. 552b(c), (4) and (6) of the Government in the Sunshine Act.

Dated: September 27, 2000.
Karen J. York,
Committee Management Officer.

[FR Doc. 00-25209 Filed 9-29-00; 8:45 am]

BILLING CODE 7555-01-M